DEPARTMENT OF COMMERCE

Foreign-Trade Zones Board

[S-78-2021]

Foreign-Trade Zone 161—Wichita, Kansas; Application for Subzone, Watco Transloading, LLC, Parsons, Kansas

An application has been submitted to the Foreign-Trade Zones (FTZ) Board by the Board of County Commissioners of Sedgwick County, Kansas, grantee of FTZ 161, requesting subzone status for the facilities of Watco Transloading, LLC (Watco), located in Parsons, Kansas. The application was submitted pursuant to the provisions of the Foreign-Trade Zones Act, as amended (19 U.S.C. 81a-81u), and the regulations of the FTZ Board (15 CFR part 400). It was formally docketed on May 18, 2021.

The proposed subzone for Watco would consist of 14 sites (totaling 138.11 acres) within the Great Plains Industrial Park in Parsons (Labette County) as follows: Site 1 (2.67 acres)—22033 Sawyer Road; Site 2 (1.28 acres)—1952 22450 Road; Site 3 (0.77 acres)—22499 Sheridan Road; Site 4 (0.68 acres)—22035 Seward Road; Site 5 (0.5 acres)—22034 Seward Road; Site 6 (1.25 acres)—1952 21500 Road; Site 7 (1.1 acres)—1994 21500 Road; Site 8 (0.65 acres)—1992 21500 Road; Site 9 (2.87 acres)—1998 21500 Road; Site 10 (1.41 acres)—1988 21500 Road; Site 11 (1.93 acres)—1935 21500 Road; Site 12 (7 acres)—1917 19750 Road; Site 13 (30 acres)—1941 22000 Road; and, Site 14 (86 acres)—1400 Area Site located at 18055, 18065, 18075, 18085 and 18095 Sabetha Road; at 18054, 18064, 18074, 18084 and 18094 Sawyer Road; at 18055, 18065, 18075, 18085 and 18095 Scandia Road; and, at 18064, 18074, 18084 and 18094 Scott Road. The proposed subzone would be subject to the existing activation limit of FTZ 161. No authorization for production activity has been requested at this time.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is July 6, 2021. Rebuttal comments in response to material submitted during the foregoing period may be submitted during the subsequent 15-day period to July 19, 2021.

A copy of the application will be available for public inspection in the “Reading Room” section of the FTZ Board's website, which is accessible via www.trade.gov/ftz.

For further information, contact Camille Evans at Camille.Evans@trade.gov.

Dated: May 18, 2021.
Andrew McGilvray,
Executive Secretary.

[FR Doc. 2021-10880 Filed 5-21-21; 8:45 am]

BILLING CODE 3510-DS-P